DEPARTMENT OF LABOR

Employment and Training Administration

[SGA/DFA-PY-08-09]

Solicitation for Grant Applications (SGA)

AGENCY: Employment and Training Administration (ETA), Labor.

ACTION: Notice: Amendment to SGA/DFA-PY-08-09.

SUMMARY: The Employment and Training Administration published a document in the Federal Register on November 17, 2008, announcing the availability of funds and solicitation for grant applications (SGA) for Local Young Offender Planning Grants, State/Local Juvenile Offender Implementation Grants and an Intermediary Juvenile Reentry Grant. This notice is an amendment to the SGA and it amends under “Part I—Overall Funding Opportunity Description” and “Part IV—Application and Submission Information, Section C, “Submission Date, Times, and Addresses”.

FOR FURTHER INFORMATION CONTACT: Chari Magruder, Grant Officer, Division of Federal Assistance, at (202) 693-3313.

Supplementary Information Correction: In the Federal Register of November 17, 2008 in FR Doc. E8-27151. On page 67885, under the heading, “Part I—Overall Funding Opportunity Description,” specifically under paragraph 7 is corrected to read: “The goal of the intermediary reentry grant is to allow an organization to design and implement a model program for serving returning juvenile offenders in four cities across the country as well as four cities in the same state.” On page 67888, under the heading, “Part IV—Application and Submission Information, Section C, Submission Date, Times, and Addresses,” specifically under paragraph 1 is corrected to read: “Applications submitted electronically through Grants.gov must be successfully submitted at http://www.grants.gov no later than 5 p.m. (Eastern Time) on December 18, 2008, and subsequently validated by Grants.gov.”

DATES: Effective Date: This notice is effective December 1, 2008.

Signed at Washington, DC, this 24th of November 2008.
Chari Magruder,
Grant Officer.

[FR Doc. E8-28349 Filed 11-28-08; 8:45 am]

BILLING CODE 4510-FT-P